DEPARTMENT OF ENERGY

Federal Energy Regulatory Commission

[Project No. 1984-056 Wisconsin; Project No. 11162-002 Wisconsin]

Wisconsin River Power Company, Wisconsin Power and Light Company; Notice of Availability of Final Environmental Assessment

November 8, 2000.

In accordance with the National Environmental Policy Act of 1969 and the Federal Energy Regulatory Commission's (Commission's) regulations, 18 CFR Part 380 (Order No. 486, 52 FR 47897), the Office of Energy Projects has reviewed the application for new major license for the Petenwell and Castle Rock Hydroelectric Project located on the Wisconsin River in Wood, Juneau, and Adams Counties near Necedah, Wisconsin, and the application for original major license for the Prairie du Sac Hydroelectric Project located on the Wisconsin River in Sauk and Columbia Counties near Prairie du Sac, Wisconsin.

On June 23, 1998, the Commission staff issued a Draft Environmental Assessment (DEA) for the proposed licensing actions and requested that comments be filed with the Commission within 45 days. Comments on the DEA were filed and are addressed in the Final Environmental Assessment (FEA) for the proposed licensing actions.

The FEA contains the staff's analysis of the potential environmental impacts of the proposed licenses, and concludes that the approval of the proposed licenses, with appropriate environmental protective measures, would not constitute major federal actions that would significantly affected the quality of the human environment.

Copies of the FEA are available for review in the Public Reference Branch, Room 2A, of the Commission's offices at 888 First Street, NE., Washington, DC 20426. These filings may also be viewed on the web at http://www.ferc.fed.us/online/rims.htm (please call (202) 208-2222 for assistance).

Linwood A. Watson, Jr.,
Acting Secretary.

[FR Doc. 00-29202 Filed 11-14-00; 8:45 am]

BILLING CODE 6717-01-M